DEPARTMENT OF JUSTICE

Drug Enforcement Administration

[Docket No. DEA-918]

Bulk Manufacturer of Controlled Substances Application: Groff Global

AGENCY: Drug Enforcement Administration, Justice.

ACTION: Notice of application.

SUMMARY: Groff Global has applied to be registered as a bulk manufacturer of basic class(es) of controlled substance(s). Refer to Supplementary Information listed below for further drug information.

DATES: Registered bulk manufacturers of the affected basic class(es), and applicants therefore, may file written comments on or objections to the issuance of the proposed registration on or before January 3, 2022. Such persons may also file a written request for a hearing on the application on or before January 3, 2022.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on September 8, 2021, Groff Global, 2218 South Queen Street, York, Pennsylvania 17402-4631, applied to be registered as a bulk manufacturer of the following basic class(es) of controlled substance(s):

Controlled substance | Drug code | Schedule
Psilocybin | 7437 | I
Psilocyn | 7438 | I

The company plans to bulk manufacture the listed controlled substances for internal use or for sale to its customers.

Brian S. Besser,
Acting Assistant Administrator.

[FR Doc. 2021-23898 Filed 11-2-21; 8:45 am]

BILLING CODE P